DEPARTMENT OF HEALTH AND HUMAN SERVICES

Cancellation of Meeting: The Secretary's Advisory Committee on Human Research Protections

AGENCY: Office of the Assistant Secretary for Health, Office of the Secretary, Department of Health and Human Services.

ACTION: Notice.

SUMMARY: Pursuant to Section 10(a) of the Federal Advisory Committee Act, notice is hereby given that the meeting of the Secretary's Advisory Committee on Human Research Protections (SACHRP), scheduled to occur March 27 and 28, 2019, at 6700B Rockledge Drive, Suite 1102, Bethesda MD 20892, has been cancelled. The Federal Register Notice announcing this meeting appeared March 11, 2019. The next meeting is scheduled for July 30 and 31, 2019.

FOR FURTHER INFORMATION CONTACT: Julia Gorey, J.D., Executive Director, SACHRP; U.S. Department of Health and Human Services, 1101 Wootton Parkway, Suite 200, Rockville, Maryland 20852; telephone: 240-453-8141; fax: 240-453-6909; email address: SACHRP@hhs.gov.

SUPPLEMENTARY INFORMATION: Under the authority of 42 U.S.C. 217a, Section 222 of the Public Health Service Act, as amended, SACHRP was established to provide expert advice and recommendations to the Secretary of Health and Human Services, through the Assistant Secretary for Health, on issues and topics pertaining to or associated with the protection of human research subjects.

Dated: March 19, 2019.
Julia G. Gorey,
Executive Director, Secretary's Advisory Committee on Human Research Protections.

[FR Doc. 2019-05801 Filed 3-26-19; 8:45 am]

BILLING CODE 4150-36-P